DEPARTMENT OF ENERGY

International Energy Agency Meetings

AGENCY: Department of Energy.

ACTION: Notice of meetings.

SUMMARY: The Industry Advisory Board (IAB) to the International Energy Agency (IEA) will meet on November 15-16, 18, 2021, through a webinar, in connection with a joint meeting of the IEA's Standing Group on Emergency Questions (SEQ) and the IEA's Standing Group on the Oil Market (SOM) which is scheduled at the same time.

DATES: November 15-16, 18, 2021.

ADDRESSES: The location details of the SEQ and SOM webinar meeting are under the control of the IEA Secretariat, located at 9 rue de la Fédération, 75015 Paris, France.

FOR FURTHER INFORMATION CONTACT: Mr. Thomas Reilly, Assistant General Counsel for International and National Security Programs, Department of Energy, 1000 Independence Avenue SW, Washington, DC 20585, (202) 586-5000.

SUPPLEMENTARY INFORMATION: In accordance with section 252(c)(1)(A)(i) of the Energy Policy and Conservation Act (42 U.S.C. 6272(c)(1)(A)(i)) (EPCA), the following notice of meetings is provided:

A meeting of the Industry Advisory Board (IAB) to the International Energy Agency (IEA) will be held as a webinar, commencing at 12 noon, Central European Time (CET), on November 16, 2021. The purpose of this notice is to permit attendance by representatives of U.S. company members of the IAB at a meeting of the IEA's Standing Group on Emergency Questions (SEQ) and the IEA's Standing Group on the Oil Market (SOM), which is scheduled to be held via webinar at the same time. The IAB will also hold a preparatory meeting via webinar among company representatives at 15:00 CET on November 15, 2021. The agenda for this preparatory webinar meeting is to review the agenda for the SEQ meeting.

The location details of the SEQ webinar meeting are under the control of the IEA Secretariat, located at 9 rue de la Fédération, 75015 Paris, France. The agenda of the SEQ meeting is under the control of the SEQ and the SOM. It is expected that the SEQ and the SOM will adopt the following agenda:

1. Adoption of the Agenda

2. Approval of Summary Record of meeting of 22 June 2021

3. Update on the Current Oil Market Situation followed by Q&A

4. Update on Coal, Gas and Electricity Markets followed by Q&A

5. Reports on Recent Oil Market and Policy Developments in IEA Countries.

6. The Outlook for the Economy and Impact of Higher Energy Prices followed by Q&A

7. Presentation: “World Energy Outlook 2021” followed by Q&A

8. Any other business:

Date of next SEQ/SOM meetings: 15-17 March 2022

Close of meeting

A meeting of the Industry Advisory Board (IAB) to the International Energy Agency (IEA) will be held as a webinar, commencing at 12 noon, Central European Time (CET), on November 18, 2021. The purpose of this notice is to permit attendance by representatives of U.S. company members of the IAB at a joint meeting of the IEA's Standing Group on Emergency Questions (SEQ) which is scheduled to be held via webinar at the same time. The IAB will also hold a preparatory meeting via webinar among company representatives at 15:00 CET on November 15, 2021. The agenda for this preparatory webinar meeting is to review the agenda for the SEQ meeting. The location details of the SEQ webinar meeting are under the control of the IEA Secretariat, located at 9 rue de la Fédération, 75015 Paris, France. The agenda of the meeting is under the control of the SEQ. It is expected that the SEQ will adopt the following agenda:

1. Adoption of the Agenda

2. Approval of the Summary Record of the 164th Meeting (webinar)

3. Status of Compliance with IEP Agreement Stockholding Obligations

4. Mid-term review US

5. ERR Belgium (tbc)

6. Industry Advisory Board Update

7. ERR of France

8. Oral Reports by Administrations

9. Any Other Business

Schedule of ERRs for 2021/2022

Schedule of SEQ & SOM Meetings for 2022:

—15-17 March 2022

—21-23 June 2022

—15-17 November 2022

As provided in section 252(c)(1)(A)(ii) of the Energy Policy and Conservation Act (42 U.S.C. 6272(c)(1)(A)(ii)), the meetings of the IAB are open to representatives of members of the IAB and their counsel; representatives of members of the IEA's Standing Group on Emergency Questions and the IEA's Standing Group on the Oil Markets; representatives of the Departments of Energy, Justice, and State, the Federal Trade Commission, the General Accounting Office, Committees of Congress, the IEA, and the European Commission; and invitees of the IAB, the SEQ, the SOM, or the IEA.

Signing Authority: This document of the Department of Energy was signed on November 4, 2021, by Thomas Reilly, Assistant General Counsel for International and National Security Programs, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, November 4, 2021.
Treena V. Garrett,
Federal Register Liaison Officer, U.S. Department of Energy.

[FR Doc. 2021-24557 Filed 11-9-21; 8:45 am]

BILLING CODE 6450-01-P